DEPARTMENT OF COMMERCE

International Trade Administration

[A-570-117]

Wood Mouldings and Millwork Products From the People's Republic of China: Preliminary Results of Antidumping Duty Administrative Review, Preliminary Determination of No Shipments, and Rescission in Part; 2020-2022

AGENCY: Enforcement and Compliance, International Trade Administration, Department of Commerce.

SUMMARY: The U.S. Department of Commerce (Commerce) preliminarily determines that Fujian Yinfeng Imp & Exp Trading Co., Ltd./Fujian Province Youxi City Mangrove Wood Machining Co., Ltd. (Yinfeng/Mangrove), and 29 non-individually examined exporters of wood mouldings and millwork products (WMMP) from the People's Republic of China (China) sold subject merchandise to the United States at prices below normal value (NV) during the period of review (POR), August 12, 2020, through January 31, 2022. Commerce also preliminarily determines that Fujian Jinquan Trade Co., Ltd./Baiyuan Wood Machining Co., Ltd. (Jinquan/Baiyuan) did not sell subject merchandise to the United States at prices below NV during the POR. We further preliminarily find that Fujian Shunchang Shengsheng Wood Industry Limited Company (Shunchang Shengsheng), Xiamen Jinxi Building Material Co., Ltd. (Xiamen Jinxi), and Zhangzhou Green Wood Industry and Trade Co., Ltd. (Green Wood) had no shipments of subject merchandise during the POR and that Gaomi Hongtai Home Furniture Co., Ltd. is part of the China-wide entity. Additionally, we are rescinding this administrative review with respect to 33 companies because the requests for review of these companies were timely withdrawn. Finally, we preliminarily intend to rescind this administrative review with respect to three companies.

DATES: Applicable March 7, 2023.

FOR FURTHER INFORMATION CONTACT: Brian Smith or Samantha Kinney, AD/CVD Operations, Office VIII, Enforcement and Compliance, International Trade Administration, Department of Commerce, 1401 Constitution Avenue NW, Washington, DC 20230; telephone: (202) 482-1766 and (202) 482-2285, respectively.

SUPPLEMENTARY INFORMATION:

Background

This administrative review is being conducted in accordance with section 751(a) of the Tariff Act of 1930, as amended (the Act). The review covers 73 companies, including mandatory respondents Jinquan/Baiyuan and Yinfeng/Mangrove.¹ For a complete description of the events that followed the initiation of this administrative review, see the Preliminary Decision Memorandum. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx. A list of topics discussed in the Preliminary Decision Memorandum is included as Appendix I to this notice.

¹ We have determined that it is appropriate to treat affiliates Yinfeng and Mangrove, and affiliates Jinquan and Baiyan, as a single entity for purposes of this administrative review. For further discussion, see Memorandum, “Wood Mouldings and Millwork Products from the People's Republic of China: Preliminary Results of Antidumping Administrative Review; 2020-2022,” dated concurrently with, and hereby adopted by, this notice (Preliminary Decision Memorandum).

Scope of the Order ²

² See Wood Mouldings and Millwork Products from the People's Republic of China: Amended Final Antidumping Duty Determination and Antidumping Duty Order, 86 FR 9486 (February 16, 2021) (Order).

The merchandise covered by the Order is wood mouldings and millwork products, which are primarily classifiable under subheadings 4409.10.0500, 4409.10.1020, 4409.10.1040, 4409.10.1060, 4409.10.1080, 4409.10.4010, 4409.10.4090, 4409.10.4500, 4409.10.5000, 4409.10.9020, 4409.10.9040, 4409.22.0590, 4409.22.1000, 4409.22.4000, 4409.22.5000, 4409.22.5020, 4409.22.5040, 4409.22.5060, 4409.22.5090, 4409.22.9000, 4409.22.9020, 4409.22.9030, 4409.22.9045, 4409.22.9060, 4409.22.9090, 4409.29.0665, 4409.29.1100, 4409.29.4100, 4409.29.5100, 4409.29.9100, 4412.99.5115, 4412.99.9500, 4418.91.9095, and 4421.91.9780 of the of the Harmonized Tariff Schedule of the United States (HTSUS). WMMP may also enter under HTSUS numbers 4409.10.6000, 4409.10.6500, 4409.22.6000, 4409.22.6500, 4409.29.6100, 4409.29.6600, 4412.41.0000, 4412.42.0000, 4412.49.0000, 4412.91.5115, 4412.92.5215, 4412.99.9700, 4418.20.4000, 4418.20.8030, 4418.20.8060, 4418.91.9195, 4418.99.9095, 4418.99.9195, 4421.91.9880, 4421.99.9780, and 4421.99.9880. While the HTSUS subheading and ASTM specification are provided for convenience and for customs purposes, the written description of the subject merchandise is dispositive. For a complete description of the scope of the Order, see the Preliminary Decision Memorandum.

Methodology

Commerce is conducting this review in accordance with section 751(a)(1)(B) of the Act and 19 CFR 351.213. We calculated export prices in accordance with section 772 of the Act. Because China is a non-market economy (NME) country within the meaning of section 771(18) of the Act, NV has been calculated in accordance with section 773(c) of the Act. For a full description of the methodology underlying our conclusions, see the Preliminary Decision Memorandum.

Partial Rescission of Review

Pursuant to 19 CFR 351.213(d)(1), Commerce will rescind an administrative review, in whole or in part, if a party who requested the review withdraws the request within 90 days of the date of publication of the notice of initiation of the requested review. On July 11, 2022, Sanming Lingtong Trading Co., Ltd. (Sanming) timely withdrew its request for review of itself and the petitioner timely withdrew its requests for review of 58 companies.³ Because no other parties requested a review of Sanming or 32 of the companies listed in the petitioner's withdrawal of review request, Commerce is rescinding the administrative review with respect to these companies.⁴ See the Preliminary Decision Memorandum for further discussion.

³ See Sanming's Letter, “Withdrawal of Request for Administrative Review and Request for Extension of Time to File Request,” dated July 11, 2022; see also Petitioner's Letter, “Withdrawal of Request for Administrative Review,” dated July 11, 2022.

⁴ See Appendix III.

Preliminary Intent To Rescind Administrative Review, in Part

We preliminary determine that China Cornici Co., Ltd. (China Cornici) had no suspended entries of subject merchandise during the POR. Absent any evidence of a reviewable entry, pursuant to 19 CFR 351.213(d)(3), we intend to rescind the administrative review of this company in the final results of review. We also intend to rescind this review with respect two companies, Aventra and TL Wood, because the record evidence indicates that they are U.S. resellers not eligible for review pursuant to 19 CFR 351.213(b)(1). For further information, see “Preliminary Intent to Rescind Administrative Review, in Part” in the Preliminary Decision Memorandum.

Preliminary Determination of No Shipments

Based on an analysis of information from U.S. Customs and Border Protection (CBP), no-shipment certifications and other record information, we preliminarily determine that Shunchang Shengsheng, Xiamen Jinxi, and Green Wood had no shipments of subject merchandise during the POR.⁵ Consistent with our practice in NME cases, we will not rescind the review with respect to these companies, but, rather, we intend to complete the review and issue appropriate instructions to CBP based on the final results of the review.⁶

⁵ See the Preliminary Decision Memorandum for further discussion.

⁶ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR at 51306 (August 28, 2014).

Separate Rates

Commerce preliminarily finds that, in addition to Yinfeng/Mangrove and Jinquan/Baiyuan, the information placed on the record by 29 companies not individually examined in this review demonstrates that these companies are eligible for a separate rate.⁷ The statute and Commerce's regulations do not address what dumping margin to apply to respondents not selected for individual examination when Commerce limits its examination in an administrative review pursuant to section 777A(c)(2) of the Act. Generally, Commerce looks to section 735(c)(5) of the Act, which provides instructions for calculating the all-others rate in an investigation, for guidance when calculating the dumping margin for respondents that are not selected for individual examination in an administrative review. Section 735(c)(5)(A) of the Act states that the all-others rate should be calculated by averaging the weighted-average dumping margins calculated for individually-examined respondents, excluding dumping margins that are zero, de minimis, or based entirely on facts available. Because we calculated a preliminary dumping margin of zero for Jinquan/Baiyuan, and a preliminary dumping margin that is not zero, de minimis, or based entirely on facts available for Yinfeng/Mangrove, we assigned the separate rate recipients a dumping margin equal to Yinfeng/Mangrove's preliminary dumping margin consistent with Commerce's practice and section 735(c)(5)(A) of the Act.

⁷ See Appendix II for a list of these companies.

The China-Wide Entity

Commerce's policy regarding conditional review of the China-wide entity applies to this administrative review.⁸ Under this policy, the China-wide entity will not be under review unless a party specifically requests and Commerce initiates, or Commerce self-initiates, a review of the China-wide entity.⁹ Because no party requested a review of the China-wide entity and no review was initiated for this POR, the China-wide entity is not under review and the China-wide entity's rate (i.e., 220.87 percent) is not subject to change.¹⁰

⁸ See Antidumping Proceedings: Announcement of Change in Department Practice for Respondent Selection in Antidumping Proceedings and Conditional Review of the Nonmarket Economy Entity in NME Antidumping Duty Proceedings, 78 FR 65963 (November 4, 2013).

⁹ Id.

¹⁰ See Order, 86 FR 9488.

Commerce preliminarily finds that Gaomi Hongtai Home Furniture Co., Ltd. did not establish its eligibility for a separate rate because it failed to provide a separate rate application or a separate rate certification. As such, we preliminarily determine that this company is part of the China-wide entity.

Preliminary Results of Review

Commerce preliminarily determines that the following weighted-average dumping margins exist for the POR:

Exporter | Weighted- average dumping margin (percent)
Fujian Jinquan Trade Co., Ltd./Baiyuan Wood Machining Co., Ltd | 0.00
Fuijian Yinfeng Imp & Exp Trading Co., Ltd./Fujian Province Youxi City Mangrove Wood Machining Co., Ltd | 9.03
Non-Selected Companies Under Review Receiving a Separate Rate ¹¹ | 9.03

Disclosure and Public Comment

¹¹ See Appendix II.

Commerce intends to disclose the calculations performed for these preliminary results to the parties under administrative protective order within five days of the date of publication of this notice in accordance with 19 CFR 351.224(b).

A schedule for the submission of case briefs and written comments will be provided to interested parties at a later date. Rebuttal briefs, limited to issues raised in case briefs, may be submitted no later than seven days after the deadline date for case briefs.¹² Parties who submit a case brief or a rebuttal brief in this proceeding are encouraged to submit with each argument: (1) a statement of the issue; (2) a brief summary of the argument; and (3) a table of authorities.

¹² See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect.”)).

Pursuant to 19 CFR 351.310(c), interested parties who wish to request a hearing must submit a written request to the Assistant Secretary for Enforcement and Compliance within 30 days of the date of publication of this notice. Requests should contain: (1) the party's name, address and telephone number; (2) the number of participants; (3) whether any participant is a foreign national; and (4) a list of issues parties intend to discuss. Issues raised in the hearing will be limited to those raised in the respective case and rebuttal briefs.¹³ If a request for a hearing is made, Commerce will announce the date and time of the hearing.

¹³ See 19 CFR 351.310(c).

Commerce intends to issue the final results of this administrative review, which will include the results of its analysis of issues raised in any briefs, within 120 days of the date of publication of these preliminary results, pursuant to section 751(a)(3)(A) of the Act and 19 CFR 351.213(h), unless this deadline is extended.

Verification

As provided in section 782(i)(3) of the Act, Commerce intends to verify the information relied upon for its final results.

Assessment Rates

In accordance with section 751(a)(2)(C) of the Act, the final results of this review shall be the basis for the assessment of antidumping duties on entries of merchandise covered by this review. Upon issuance of the final results, Commerce will determine, and CBP shall assess, antidumping duties on all appropriate entries covered by this review.¹⁴ Commerce intends to issue assessment instructions to CBP no earlier than 35 days after the date of publication of the final results of this review. If a timely summons is filed at the U.S. Court of International Trade, the assessment instructions will direct CBP not to liquidate relevant entries until the time for parties to file a request for a statutory injunction has expired (i.e., within 90 days of publication).

¹⁴ See 19 CFR 351.212(b)(1).

If a mandatory respondent's ad valorem weighted-average dumping margin is not zero or de minimis (i.e., less than 0.50 percent) in the final results of this review, Commerce will calculate importer-specific assessment rates for that respondent, in accordance with 19 CFR 351.212(b)(1).¹⁵ Because both respondents did not report entered value, we will calculate importer-specific per-unit duty assessment rates based on the ratio of the total amount of antidumping duties calculated for the examined sales to the total quantity of those sales.¹⁶ To determine whether an importer-specific, per-unit assessment rate is de minimis, in accordance with 19 CFR 351.106(c)(2), we also will calculate an importer-specific ad valorem ratio based on estimated entered values.

¹⁵ In these preliminary results, Commerce applied the assessment rate calculation method adopted in Antidumping Proceedings: Calculation of the Weighted-Average Dumping Margin and Assessment Rate in Certain Antidumping Proceedings: Final Modification, 77 FR 8101 (February 14, 2012).

¹⁶ We received comments concerning entered value from U.S. importers. We have issued supplemental questionnaires and the responses are not due until after the preliminary results. Therefore, we will take these comments and the responses to these questionnaires into consideration for the final results.

If, in the final results, a mandatory respondent's weighted-average dumping margin is zero or de minimis (i.e., less than 0.5 percent), Commerce will instruct CBP to liquidate the appropriate entries for that respondent without regard to antidumping duties.¹⁷ For entries that were not reported in the U.S. sales databases submitted by each mandatory respondent during this review, and for the companies that do not qualify for a separate rate, Commerce will instruct CBP to liquidate such entries at the China-wide rate (i.e., 220.87 percent).¹⁸ For the respondents that were not selected for individual examination in this administrative review but qualified for a separate rate, the assessment rate will be equal to the weighted-average dumping margin determined in the final results of this review. Additionally, if Commerce continues to find in the final results that Shunchang Shengsheng, Xiamen Jinxi, and Green Wood had no shipments of the subject merchandise, any suspended entries of subject merchandise associated with those companies will be liquidated at the China-wide rate.

¹⁷ See 19 CFR 351.106(c)(2).

¹⁸ See Order.

For the companies for which we have rescinded this review, Commerce intends to instruct CBP to assess antidumping duties on all appropriate entries at a rate equal to the cash deposit rate of estimated antidumping duties required at the time of entry, or withdrawal from warehouse, for consumption in accordance with 19 CFR 351.212(c)(1)(i). Commerce intends to issue assessment instructions to CBP for the rescinded companies no earlier than 35 days after the date of publication of the preliminary results in the Federal Register.

If Commerce rescinds this review with respect to Aventra, TL Wood, and China Cornici in the final results, we intend to instruct CBP to assess antidumping duties on all appropriate entries at a rate equal to the cash deposit rate of estimated antidumping duties required at the time of entry, or withdrawal from warehouse, for consumption in accordance with 19 CFR 351.212(c)(1)(i). We will issue such instructions to CBP no earlier than 35 days after the date of publication of the final results in the Federal Register.

Cash Deposit Requirements

The following cash deposit requirements will be effective upon publication of the final results of this administrative review for shipments of the subject merchandise from China entered, or withdrawn from warehouse, for consumption on or after the publication date, as provided by section 751(a)(2)(C) of the Act: (1) for companies listed above that have established their eligibility for a separate rate, the cash deposit rate will be equal to the weighted-average dumping margin established in the final results of this review (except, if the rate is de minimis, then the cash deposit rate will be zero); (2) for previously examined Chinese and non-Chinese exporters not listed above that received a separate rate in a prior completed segment of this proceeding, the cash deposit rate will continue to be the existing exporter-specific cash deposit rate; (3) for all Chinese exporters of subject merchandise that have not been found to be entitled to a separate rate, the cash deposit rate will be the rate for the China-wide entity (i.e., 220.87 percent); and (4) for all non-Chinese exporters of subject merchandise which have not received their own separate rate, the cash deposit rate will be the rate applicable to the Chinese exporter that supplied that non-Chinese exporter. These cash deposit requirements, when imposed, shall remain in effect until further notice.

Notification to Importers

This notice also serves as a preliminary reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Notification to Interested Parties

This administrative review and notice are issued and published in accordance with sections 751(a)(1) and 777(i)(1) of the Act, 19 CFR 351.213(d)(4), and 19 CFR 351.221(b)(4).

Dated: February 28, 2023.
Abdelali Elouaradia,
Deputy Assistant Secretary for Enforcement and Compliance.

Appendix I—List of Topics Discussed in the Preliminary Decision Memorandum

I. Summary

II. Background

III. Period of Review

IV. Scope of the Order

V. Selection of Respondents

VI. Partial Rescission of Review

VII. Single Entity Determinations

VIII. Preliminary Determination of No Shipments

IX. Discussion of the Methodology

X. Recommendation

Appendix II—Non-Selected Companies Under Review Receiving a Separate Rate

1. Anji Huaxin Bamboo & Wood Products Co., Ltd.

2. Baixing Import and Export Trading Co., Ltd Youxi Fujian

3. Bel Trade Wood Industrial Co., Ltd Youxi Fujian

4. Fotiou Frames Limited

5. Fujian Hongjia Craft Products Co., Ltd.

6. Fujian Sanming City Donglai Wood Co., Ltd

7. Fujian Wangbin Decorative Material Co., Ltd

8. Fujian Youxi Best Arts & Crafts Co. Ltd

9. Fujian Zhangping Kimura Forestry Products Co., Ltd.

10. Homebuild Industries Co., Ltd.

11. Jiangsu Chen Sheng Forestry Development Co., Ltd./Jiangsu Space Axis Wood Technology Co., Ltd

12. Jiangsu Wenfeng Wood Co., Ltd.

13. Jim Fine Wooden Products Co., Ltd.

14. Longquan Jiefeng Trade Co., Ltd.

15. Nanping Huatai Wood & Bamboo Co., Ltd

16. Omni One, Co., Limited

17. Putian Yihong Wood Industry Co., Ltd.

18. Raoping HongRong Handicrafts, Co., Ltd.

19. Shandong Miting Household Co., Ltd.

20. Shaxian Hengtong Wood Industry Co., Ltd

21. Shaxian Shiyiwood, Ltd

22. Shenzhen Xinjintai Industrial Co., Ltd.

23. Shuyang Kevin International Co., Ltd

24. Sun Valley Shade Co., Ltd.

25. Suqian Sulu Import & Export Trading Co., Ltd

26. Tim Feng Manufacturing Co., Ltd.

27. Wuxi Boda Bamboo & Wood Industrial Co., Ltd.

28. Zhangzhou Wangjiamei Industry & Trade Co., Ltd.

29. Zhangzhou Yihong Industrial Co., Ltd.

Appendix III—Companies for Which the Review Is Rescinded

1. Anji Golden Elephant Bamboo Wooden Industry Co., Ltd

2. Cao County Hengda Wood Products Co., Ltd

3. Evermark (Yantai) Co., Ltd

4. Fujian Nanping Yuanqiao Wood Industry Co., Ltd

5. Fujian Province Youxi County Chang Sheng Wood Machining Co., Ltd

6. Fujian Ruisen International Industrial Co., Ltd

7. Heze Huasheng Wooden Co., Ltd

8. Huaan Longda Wood Industry Co., Ltd

9. Lanzhou Xinyoulian Industrial Co., Ltd

10. Lianyungang Tianke New Energy Technology Co., Ltd

11. Nanping Qiangmei Import & Export Co., Ltd

12. Oppein Home Group Inc

13. Pucheng County Qiangmei Wood Company, Ltd

14. Qimen Jianxing Bamboo and Wood Goods Co., Ltd

15. Qingdao Sanhe Dacheng International Trade Co., Ltd

16. Rizhao Duli Trade Co., Ltd

17. Rizhao Forest International Trading Co., Ltd.

18. Rizhao Guantong Woodworking Co., Ltd

19. Rizhao Jiayue Industry & Trading Co., Ltd

20. Sanming Lingtong Trading Co., Ltd/Sanming Lintong Trading Co., Ltd

21. Sanming Shitong Wood Industry Co., Ltd

22. Shandong Jicheng Decorative Material Co., Ltd

23. Shouguang Luli Wood Industry Co., Ltd.

24. Shuyang Zhongding Decoration Materials Co., Ltd

25. The Ancientree Cabinet Co., Ltd

26. Xiamen Oubai Industry & Trade Co., Ltd

27. Xuzhou Goodwill Resource Co., Ltd

28. Xuzhou Hexi Wood Co., Ltd

29. Yongan Tenlong Bamboo & Wood Products Co., Ltd

30. Zhangping San Chuan Industrial & Trade Co., Ltd

31. Zhangzhou Fukangyuan Industry and Trade Co., Ltd

32. Zhangzhou City Jinxi Building Material Co., Ltd

33. Zhejiang Senya Board Industry Co., Ltd

[FR Doc. 2023-04609 Filed 3-6-23; 8:45 am]

BILLING CODE 3510-DS-P